DEPARTMENT OF THE INTERIOR

Bureau of Land Management

DEPARTMENT OF AGRICULTURE

Forest Service

[LLNV912000 L16400000.PH0000 LXSS006F0000 261A; MO#4500011786; 10-08807; TAS: 14X1109]

Notice of Public Meeting: Recreation Subcommittee of the Sierra Front-Northwestern Great Basin, Northeastern Great Basin, and Mojave-Southern Great Basin Resource Advisory Councils, Nevada

AGENCY: Bureau of Land Management, Interior and Forest Service, Agriculture.

ACTION: Notice of recreation advisory subcommittee meeting.

SUMMARY: In accordance with the Federal Lands Recreation Enhancement Act of 2004 (FLREA) (Pub. L. 108-447), the Recreation Subcommittee of the Bureau of Land Management's (BLM) Nevada Resource Advisory Committees (RACs) will hold a meeting to discuss fee proposals at the Red Rock Canyon National Conservation Area (NCA) Scenic Loop managed by the Bureau of Land Management.

Date and Time: The Recreation Subcommittee will meet on Wednesday, February 17, 2010, at 12:30 p.m. A time for general public comment, where the public may submit oral or written comments to the Recreation Subcommittee, will be provided during the meeting.

ADDRESSES: Red Rock Canyon NCA Visitor Center, Highway 159, Las Vegas, Nevada.

FOR FURTHER INFORMATION CONTACT: Barbara Keleher, Outdoor Recreation Planner, telephone (775) 861-6628, e-mail: barbara_keleher@blm.gov, or mail: BLM Nevada State Office, 1340 Financial Blvd., Reno, NV 89502.

SUPPLEMENTARY INFORMATION: FLREA directs the secretaries of Interior and Agriculture to establish Recreation Resource Advisory Committees to provide advice and recommendations on recreation fees and fee areas in each state or region for Federal recreational lands and waters managed by the BLM or Forest Service. Nevada's recreation subcommittee includes members of the three existing BLM RACs and has responsibilities pertaining to both BLM and Forest Service managed Federal lands and waters according to a national interagency agreement between the Forest Service and the BLM. This subcommittee will recommend new amenity fees and fee change proposals to the respective RACs for each geographic region.

All meetings are open to the public. A final agenda will be available at http://www.blm.gov/nv/st/en/res/resource_advisory/recreation_rac.html. A news release will be sent to local and regional media at least 14 days before the meeting. Individuals who need special assistance such as sign language interpretation or other reasonable accommodations, or who wish a printed copy of the agenda, should contact Barbara Keleher no later than 10 days prior to the meeting.

Ron Wenker,
BLM, Nevada State Director,
Jeremiah C. Ingersoll,
USFS, Acting Supervisor, Humboldt-Toiyabe National Forest.

[FR Doc. 2010-1102 Filed 1-20-10; 8:45 am]

BILLING CODE 4310-HC-P